DEPARTMENT OF COMMERCE

National Oceanic and Atmospheric Administration

RIN 0648-XX08

Marine Mammals; File No. 14628

AGENCY: National Marine Fisheries Service (NMFS), National Oceanic and Atmospheric Administration (NOAA), Commerce.

ACTION: Notice; issuance of permit amendment.

SUMMARY: Notice is hereby given that National Museum of Natural History (NMNH), Smithsonian Institution (Charles W. Potter, Responsible Party), PO Box 37012, Washington, DC 20013 has been issued a minor amendment to Scientific Research Permit No. 14628.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Amy Sloan, (301) 427-8401.

SUPPLEMENTARY INFORMATION: The requested amendment has been granted under the authority of the Marine Mammal Protection Act of 1972, as amended (16 U.S.C. 1361 et seq.) and the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The original permit (No. 14628), issued on November 18, 2010 (75 FR 72794) authorizes the salvage, collection, importation, exportation, receipt, possession, archive, and analyses of marine mammal and endangered species parts under NMFS jurisdiction. No live animal takes and no incidental harassment of animals are authorized. Parts are archived by the NMNH and used to support research studies and incidental education. The minor amendment (No. 14628-01) extends the duration of the permit for one year, through November 30, 2016, but does not change any other terms or conditions of the permit.

Dated: October 21, 2015.
Julia Harrison,
Chief, Permits and Conservation Division, Office of Protected Resources, National Marine Fisheries Service.

[FR Doc. 2015-27208 Filed 10-26-15; 8:45 am]

BILLING CODE 3510-22-P